DEPARTMENT OF THE INTERIOR

Fish and Wildlife Service

[FWS-R8-ES-2008-N0154; 80221-1113-0000-F5]

Endangered Species Recovery Permit Applications

AGENCY: Fish and Wildlife Service, Interior.

ACTION: Notice of receipt of permit applications; request for comment.

SUMMARY: We invite the public to comment on the following applications to conduct certain activities with endangered species.

DATES: Comments on these permit applications must be received on or before July 28, 2008.

ADDRESSES: Written data or comments should be submitted to the U.S. Fish and Wildlife Service, Endangered Species Program Manager, Region 8, 2800 Cottage Way, Room W-2606, Sacramento, CA 95825 (telephone: 916-414-6464; fax: 916-414-6486).

Please refer to the respective permit number for each application when submitting comments. All comments received, including names and addresses, will become part of the official administrative record and may be made available to the public.

FOR FURTHER INFORMATION CONTACT: Daniel Marquez, Fish and Wildlife Biologist, see ADDRESSES, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-097845

Applicant: Mantech SRS Technologies, Lompoc, California.

The applicant requests an amendment to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California; and take (survey by pursuit) the El Segundo Blue butterfly (Euphilotes battoides allyni) in conjunction with surveys in Ventura and Santa Barbara Counties, California for the purpose of enhancing their survival.

Permit No. TE-069171

Applicant: National Park Service, Thousand Oaks, California.

The applicant requests an amendment to remove/reduce to possession the Astragalus brauntonii (Braunton's milkvetch) from federal lands in conjunction genetic research and taxonomic status studies throughout the range of the species in California, for the purpose of enhancing their survival.

Permit No. TE-147533

Applicant: Jeffery J. Mitchell, San Francisco, California.

The applicant requests an amendment to take (survey, capture, collect biological samples, and release) the California tiger salamander (Ambystoma californiense) in conjunction with biological research throughout the range of the species in California, for the purpose of enhancing its survival.

Permit No. TE-185595

Applicant: Kelly E. Buja, Sacramento, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California, for the purpose of enhancing their survival.

We solicit public review and comment on each of these recovery permit applications. Comments and materials we receive will be available for public inspection, by appointment, during normal business hours at the address listed in the ADDRESSES section of this notice.

Dated: June 23, 2008.
Michael Fris,
Acting Regional Director, Region 8, Sacramento, California.

[FR Doc. E8-14581 Filed 6-26-08; 8:45 am]

BILLING CODE 4310-55-P